NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by October 6, 2017. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nature McGinn, ACA Permit Officer, at the above address or ACApermits@nsf.gov.

SUPPLEMENTARY INFORMATION: The National Science Foundation, as directed by the Antarctic Conservation Act of 1978 (Pub. L. 95-541, 45 CFR 670 as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2018-005

1. Applicant: Shaun O'Boyle, 30 South Carson Ave., Dalton, MA 01226.

Activity for Which Permit Is Requested

Enter Antarctic Specially Protected Area. The applicant, an artist supported by NSF's Antarctic Artists and Writers Program, would enter ASPA 149, Cape Shirreff, to photograph the manmade structures and their relationship to surrounding landscapes. If approved, the applicant would be accompanied in by experienced staff and researchers who are familiar with the environmental sensitivities of the Area and would ensure that the applicant acts in accordance with the management plan for the Area. The results of this work are expected to be useful for outreach and education about Antarctica and the scientific research conducted there.

Location

ASPA 149, Cape Shirreff, Livingston Island, South Shetland Islands.

Dates

October 20-November 5, 2017.

Nadene G. Kennedy,
Polar Coordination Specialist, Office of Polar Programs.

[FR Doc. 2017-18781 Filed 9-5-17; 8:45 am]

BILLING CODE 7555-01-P